ENVIRONMENTAL PROTECTION AGENCY

40 CFR Part 80

[EPA-HQ-2005-0036; FRL-8564-3]

RIN 2060-AO89

Control of Hazardous Air Pollutants From Mobile Sources: Early Credit Technology Requirement Revision

AGENCY: Environmental Protection Agency (EPA).

ACTION: Withdrawal of Direct Final Rule.

SUMMARY: Because EPA received significant adverse comment, we are withdrawing the direct final rule for revising the February 26, 2007 mobile source air toxics rule's requirements that specify the benzene control technologies that qualify a refiner to generate early benzene credits, published on March 12, 2008.

DATES: Effective May 9, 2008, EPA withdraws the direct final rule published at 73 FR 13132 on March 12, 2008.

FOR FURTHER INFORMATION CONTACT: Christine Brunner, Office of Transportation and Air Quality, Assessment and Standards Division, Environmental Protection Agency, 2000 Traverwood, Ann Arbor, MI 48105; telephone number: (734) 214-4287; fax number: (734) 214-4816; e-mail address: brunner.christine@epa.gov. Alternative contact: Assessment and Standards Division Hotline, telephone number: (734) 214-4636; e-mail address: asdinfo@epa.gov.

SUPPLEMENTARY INFORMATION: Because EPA received significant adverse comment, we are withdrawing the direct final rule for revising the February 26, 2007 mobile source air toxics rule's requirements that specify the benzene control technologies that qualify a refiner to generate early benzene credits, published on March 12, 2008 (73 FR 13132). We stated in that direct final rule that if we received adverse comment by April 11, 2008, the direct final rule would not take effect and we would publish a timely withdrawal in the Federal Register. We subsequently received significant adverse comment on that direct final rule. We will address those comments in any subsequent final action, which will be based on the parallel proposed rule also published on March 12, 2008 (73 FR 13163). As stated in the direct final rule and the parallel proposed rule, we will not institute a second comment period on this action.

Dated: May 1, 2008.
Stephen L. Johnson,
Administrator.

Accordingly, the amendments to the rule published on March 12, 2008 (73 FR 13132) are withdrawn as of May 9, 2008.

[FR Doc. E8-10404 Filed 5-8-08; 8:45 am]

BILLING CODE 6560-50-P